DEPARTMENT OF COMMERCE

National Oceanic and Atmospheric Administration

RIN 0648-XE650

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, June 13, 2016 through Thursday, June 16, 2016. For agenda details, see SUPPLEMENTARY INFORMATION.

ADDRESSES: The meeting will be held at: University of Delaware Clayton Hall, 100 David Hollowell Drive, Newark, DE 19716, telephone: (302) 831-2998.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible.)

Monday, June 13, 2016

Ecosystem and Ocean Planning Committee

Review input from the Advisory Panel on fishing activities that impact habitat—draft policy document and provide comments/revisions to the draft document and any other committee updates.

Tuesday, June 14, 2016

Mackerel, Squid, Butterfish Specifications, Meeting as a Committee of the Whole

Review fishery performance and 2017 specifications, butterfish cap operation, and butterfish/longfin squid mesh information.

River Herring/Shad, Meeting as a Committee of the Whole

Review cap operation and management progress and “Stock in the Fishery” white paper outline.

Squid Capacity Amendment

Review action plan.

Climate Change and Mid-Atlantic Fishery

Presentation by John Hare of NOAA Fisheries and Malin Pinsky of Rutgers University.

BOEM's Renewable Energy Activities

Presentation by Brian Hooker of BOEM.

Mid-Atlantic Ocean Data Portal Presentation

Presentation by Jay Odell of the Nature Conservancy.

eVTR Framework—Meeting 1

Presentation by Andy Loftus of Loftus Consulting.

Wednesday, June 15, 2016

Industry-Funded Monitoring Amendment

Review draft EA and select preferred mackerel alternatives for public hearings.

Law Enforcement Report

Reports will be received from NOAA Office of Law Enforcement and the U.S. Coast Guard.

Surfclam and Ocean Quahog Specification

Develop recommendations for 2017-18 specifications.

Blueline Tilefish 2017 Recreational Specifications/Possible Reconsideration

Consider alternatives to proposed blueline tilefish recreational specifications.

Thursday, June 16, 2016

Business Session

Organization Reports; Liaison Reports; Executive Director's Report; Science Report; and Committee Reports.

• Continuing and New Business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: May 24, 2016.
Tracey L. Thompson,
Acting Deputy Director, Office of Sustainable Fisheries, National Marine Fisheries Service.

[FR Doc. 2016-12619 Filed 5-26-16; 8:45 am]

BILLING CODE 3510-22-P